DEPARTMENT OF AGRICULTURE

Forest Service

Lolo National Forest Big Game Winter Range and Burned Area Weed Management Project

AGENCY: Forest Service, USDA.

ACTION: Revised Notice: intent to prepare an environment impact statement (EIS).

SUMMARY: This is a revision of a Notice of Intent originally published in the Federal Register on July 30, 1998. The original notice stated the Forest Service would prepare an environmental impact statement to address noxious weeds and big game winter range habitat degradation of 21 critical, low elevation, winter ranges covering approximately 20,120 acres on the Lolo National Forest. Within these 20,120 acres we are considering treating weeds on a maximum of 14,010 acres. This revision proposes analyzing weed management options on an additional 67,300 acres of Lolo National Forest lands that burned in the wildfires of 2000. Within these 67,300 acres, we are considering treating weeds on a maximum of 7,650 acres. The reason we are expanding this EIS is because of the anticipated increase in invasive weeds due to loss of canopy and competitive vegetation and increased ground disturbance from the wildfires of 2000. The issues identified in the July 30, 1998 Federal Register notice have been amended as follows:

1. Recognizing that invasive weeds are spreading rapidly in Western Montana, what effect will invasive weeds have on elk, deer and bighorn sheep big game winter ranges, other wildlife, native grasses and wildflower communities and threatened, endangered or sensitive species?

2. How would actions taken to control invasive weeds, including the use of herbicides, biological agents, prevention measures, and mechanical treatments affect elk, deer and bighorn sheep big game winter ranges, other wildlife, native grasses and wildflower communities, threatened, endangered or sensitive plants, fish and water quality?

3. What are the potential effects of herbicides used to control invasive weeds on human health?

4. Fire suppression has changed forest communities. How would prescribed fire affect elk, deer and bighorn sheep big game winter ranges, other wildlife, native grasses and wildflowers, threatened, endangered or sensitive species and other resources?

5. What are the fire escape, air quality, and human health risks associated with prescribed fire?

6. As a result of the wildfires of 2000, burned areas have increased bare soil, reduced overstory shade and less competitive vegetation. How have these changes affected the vulnerability of the burned areas to invasive weeds?

7. How can we mitigate invasive weed spread in the burned areas and how urgent is such mitigation?

8. What are the comparative costs of implementing different restoration activities?

DATES: Comments concerning this revision should be received on or before March 19, 2001. Person who have already commented on the original winter range project in the July 30, 1998 Notice of Intent do not need to resubmit those comments.

ADDRESSES: The responsible official is Deborah L. R. Austin, Forest Supervisor, Lolo National Forest, Supervisor's Office, Building 24A Fort Missoula, Missoula, MT. 59804. Phone (406) 329-3797.

FOR FURTHER INFORMATION CONTACT: Andy Kulla, Resource Assistant, Missoula Ranger District, at (406) 329-3962. Please direct written comments to Andy Kulla at the Missoula Ranger District; Building 24A, Fort Missoula, Missoula, MT 59804.

SUPPLEMENTARY INFORMATION: Further information about the proposal can be found in the original Notice of Intent. Another formal opportunity to comment will be provided following completion of the Draft Environmental Impact Statement (DEIS). The DEIS will be available for public review by spring or summer of 2001. The Final Environmental Impact Statement (FEIS) will be filed by the summer or fall of 2001. The responsible official will make a decision on this proposal after considering comments and responses, environmental consequences discussed in the FEIS and applicable laws, regulations and policies. The decision and reasons for the decision will be documented in a Record of Decision.

Dated: February 17, 2001.
Deborah L. R. Austin,
Forest Supervisor, Lolo National Forest.

[FR Doc. 01-3971 Filed 2-15-01; 8:45 am]

BILLING CODE 3410-11-M